DEPARTMENT OF COMMERCE

International Trade Administration

Lawrence Berkeley National Laboratory et al.; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). On August 15, 2025, the Department of Commerce published a notice in the Federal Register requesting public comment on whether instruments of equivalent scientific value, for the purposes for which the instruments identified in the docket(s) below are intended to be used, are being manufactured in the United States. See Application(s) for Duty-Free Entry of Scientific Instruments, 90 FR 39377, August 15, 2025. We received no public comments.

Comments: None received. Decision: Approved. We know of no instrument of equivalent scientific value to the foreign instrument described below, for such purposes as this is intended to be used, that was being manufactured in the United States at the time of order.

Docket Number: 25-024. Applicant: Lawrence Berkeley National Laboratory, One Cyclotron Road, Berkeley, CA 94720. Instrument: Helium Liquefaction Plant. Manufacturer: Air Liquide Advanced Technologies, France. Intended Use: The instrument is intended to enhance the testing capabilities for high-current, large-stored-energy superconducting magnets through reliable, efficient, and high-capacity cryogenic support.

Docket Number: 25-025. Applicant: Stanford University, 450 Jane Stanford Way, Stanford, CA 94305. Instrument: Ultrafast Electron Diffraction (UED) with Radiofrequency Compression. Manufacturer: e-Ray Scientific, Canada. Intended Use: The instrument is intended to study how various materials such as magnets, metals, and insulators change their structure after being hit by short laser pulses, exploring interactions among electrons and atoms within these materials, and observing their rapid responses in detail.

Docket Number: 25-026. Applicant: Stanford University, 450 Jane Stanford Way, Stanford, CA 94305. Instrument: Coherent Astrella Laser Amplifier System. Manufacturer: Coherent, United Kingdom. Intended Use: The instrument is intended to investigate how a wide range of crystalline solids, including metals, magnets, and insulators respond to the illumination of intense light pulses.

Docket Number: 25-027. Applicant: Trustees of Indiana University, 107 S Indiana Ave., Bloomington, IN 47405. Instrument: High-Precision Multi-Channel Voltage Supply. Manufacturer: ISEG HV, Germany. Intended Use: The instrument is intended to study an array of trapped atomic ions which must be confined using precision voltages applied to electrodes of the ion trap and to construct a state-of-the-art quantum simulation device.

Docket Number: 25-030. Applicant: California Institute of Technology, 1200 E California Blvd., Pasadena, CA 91125. Instrument: Intra-cavity doubled, low noise, high-power narrow linewidth VECSEL laser at 460.862 nm wavelength and 1.5W power. Manufacturer: Vexlum Ltd., Finland. Intended Use: The instrument is intended to use ytterbium and strontium atoms trapped in optical tweezer arrays to realize a programmable optical clock platform which will be used to study how quantum-enhancement metrology can be realized through large-scale entangled states.

Docket Number: 25-031. Applicant: Trustees of Purdue University, 2550 Northwestern Ave., Suite 1100, West Lafayette, IN 47906. Instrument: Unitree Humanoid Robot. Manufacturer: HangZhou YuShu Technology Co., Ltd., China. Intended Use: The instrument is intended to develop and deploy task-oriented generative AI modules to enable advanced, fine-grained and precise motion control, and real-time reasoning in multi-humanoid robot systems; develop a generative AI-powered real-time collaborative and communication framework for multi-human multi-humanoid robot interaction; and design a scalable and adaptive human-robot interface to effectively support both human-in-the-loop and human-on-the-loop decision making.

Docket Number: 25-033. Applicant: University of South Florida, 4202 E Fowler Ave., Tampa, FL 33620. Instrument: Miniature Two Photon Microscope. Manufacturer: Nanjing Transcend Vivoscope Bio-Technology Co., Ltd., China. Intended Use: The instrument is intended to record fluorescent signals in specific populations of neuronal or non-neuronal cells in mice brains and to develop the principles regarding how these brain cells encode and/or regulate behaviors of mice.

Docket Number: 25-035. Applicant: UChicago Argonne LLC, 9700 South Cass Avenue, Lemont, Illinois 60439. Instrument: Detector Manipulation System. Manufacturer: JJ X-Ray A/S, Denmark. Intended Use: The instrument is intended to be used to accurately position detectors over a large motion range with high stability. The system will be used for operations at the Advanced Photon Source (APS), a third-generation synchrotron light source that produces very bright and concentrated x-ray beams used for imaging in material science and biomedical applications. The instrument will further the understanding of different materials and material properties, and aid in the development of new materials.

Dated: September 12, 2025.
Tyler O'Daniel,
Acting Director, Subsidies Enforcement Office, Enforcement and Compliance.

[FR Doc. 2025-17901 Filed 9-15-25; 8:45 am]

BILLING CODE 3510-DS-P